DEPARTMENT OF THE INTERIOR

National Park Service

Notice of Intent To Prepare a Draft Environmental Impact Statement for the General Management Plan for Kings Mountain National Military Park, Blacksburg, SC

SUMMARY: Pursuant to section 102(2)(C) of the National Environmental Policy Act of 1969, requirements of the National Parks and Recreation Act of 1978, Public Law 95-625, and National Park Service Policy in Director's Order Number 2 (Park Planning) and Director's Order Number 12 (Conservation Planning, Environmental Impact Analysis, and Decision-making) the National Park Service (NPS) will prepare an Environmental Impact Statement for the General Management Plan (EIS/GMP) for Kings Mountain National Military Park (KIMO) located near Blacksburg, South Carolina. The authority for publishing this notice is contained in 40 CFR 1501.7. The statement will assess potential environmental impacts associated with various types and levels of visitor use and resources management within KIMO.

The NPS is currently accepting comments from interested parties on issues, concerns, and suggestions pertinent to the management of KIMO. Suggestions and ideas for managing the cultural and natural resources and visitor experiences at KIMO are encouraged. Comments may be submitted in writing to the address listed at the end of this notice or through the NPS Planning, Environment, and Public Comment (PEPC) Web site, which is linked to the park's Web site at http://www.nps.gov/kimo.

The NPS will publish periodic newsletters on the PEPC Web site to present scoping issues and preliminary management concepts to the public as they are developed. Public meetings to present draft management concepts will be conducted in the local area. Specific locations, dates, and times will be announced in local media and on the PEPC Web site.

If you wish to comment, you may submit your comments by any one of several methods. You may mail comments to Superintendent, Kings Mountain National Military Park, 2625 Park Road, Blacksburg, South Carolina 20702, telephone: 864-936-7921. You may also comment via the Internet to http://parkplanning.nps.gov/parkHome.cfm?parkId=390. Please submit internet comments as a plain text file, avoiding the use of special characters and any form of encryption. If you do not receive a confirmation from the system that we have received your internet message, contact us directly at 404-562-3124, extension 685. Finally, you may hand-deliver comments to Kings Mountain National Military Park, 2625 Park Road, Blacksburg, South Carolina 20702.

Our practice is to make comments, including names, home addresses, home phone numbers, and e-mail addresses of respondents, available for public review. Individual respondents may request that we withhold their names and/or home addresses, etc., but if you wish us to consider withholding this information you must state this prominently at the beginning of your comments. In addition, you must present a rationale for withholding this information. This rationale must demonstrate that disclosure would constitute a clearly unwarranted invasion of privacy. Unsupported assertions will not meet this burden. In the absence of exceptional, documentable circumstances, this information will be released. We will always make submissions from organizations or businesses, and from individuals identifying themselves as representatives of or officials of organizations or businesses, available for public inspection in their entirety.

DATES: Locations, dates, and times of public meetings will be published in local newspapers and may also be obtained by contacting the NPS Southeast Regional Office, Division of Planning and Compliance. This information will also be published on the GMP Web site for KIMO.

ADDRESSES: Scoping suggestions should be submitted to the following addresses to ensure adequate consideration by the NPS: Superintendent, Kings Mountain National Military Park, 2625 Park Road, Blacksburg, South Carolina, Telephone: 864-936-7921.

FOR FURTHER INFORMATION CONTACT: Superintendent, Kings Mountain National Military Park, 2625 Park Road, Blacksburg, South Carolina, telephone: 864-936-7921.

SUPPLEMENTARY INFORMATION: The Draft and Final GMP/EIS will be made available to all known interested parties and appropriate agencies. Full public participation by Federal, State, and local agencies as well as other concerned organizations and private citizens is invited throughout the preparation process of this document.

The responsible official for this Environmental Impact Statement is the Regional Director for the Southeast Region, Patricia A. Hooks.

Dated: September 11, 2006.
Patricia A. Hooks,
Regional Director, Southeast Region.

[FR Doc. 06-8951 Filed 10-27-06; 8:45 am]

BILLING CODE 4310-A3-M